DEPARTMENT OF COMMERCE

Bureau of Industry and Security

Action Affecting Export Privileges; Stephen Lincoln

In the Matter of: Stephen Lincoln, 21 Durrell Drive, Rugby, Warwickshire, England CV22 7GW; Respondent.

Order Relating to Stephen Lincoln

The Bureau of Industry and Security, U.S. Department of Commerce (``BIS'') has notified Stephen Lincoln (hereinafter referred to as ``Lincoln'') of its intention to initiate an administrative proceeding against Lincoln pursuant to Section 766.3 of the Export Administration Regulations (currently codified at 15 CFR parts 730-774 (2006)) (``Regulations'') ¹ and Section 13(c) of the Export Administration Act of 1979, as amended (50 U.S.C. app. 2401-2420 (2000)) (``Act''),² by issuing a proposed charging letter to Lincoln that alleged that Lincoln committed two violations of the Regulations. Specially, the charges are:

¹ The violations charged occurred in 2003. The Regulations governing the violations at issue are found in the 2003 version of the Code of Federal Regulations (15 CFR parts 730-774 (2003)). The 2006 Regulations govern the procedural aspects of the case.

² Since August 21, 2001, the Act has been in lapse and the President, through Executive Order 13222 of August 17, 2001 (3 CFR, 2001 comp. 783 (2002)), which has been extended by successive Presidential Notices, the most recent being that of August 2, 2006 (71 Fed. Reg. 44,551 (Aug. 7, 2006)), has continued the Regulations in effect under the International Emergency Economic Powers Act (50 U.S.C. 1701-1706 (2000)) (``IEEPA'').

Charge 1 15 CFR 764.2(a)—Reexporting Item to Iran Without the Required U.S. Government Authorization

On one occasion in June 2003, Lincoln engaged in conduct prohibited by the Regulations by reexporting a system containing specialized software (``system''), an item subject to the Regulations (ECCN ³ 5D002), from the United Kingdom (``UK'') to Iran without the required U.S. Government authorization. Pursuant to Section 746.7(a)(2)(ii) of the Regulations, the reexport of the system to Iran required a license from BIS. Pursuant to Section 746.7(a)(3), in order to comply with the provisions of the EAR, transactions subject to both the EAR and the Iranian Transactions Regulations ⁴ maintained by the Office of Foreign Assets Control, U.S. Department of the Treasury (``OFAC''), require OFAC authorization. The reexport of the system to Iran required authorization from OFAC pursuant to 31 CFR. Part 560.205, and no such authorization was obtained. In failing to obtain such authorization from OFAC, Lincoln committed one violation of Section 764.2(a) of the Regulations.

³ ``ECCN'' refers to ``Export Control Classification Number.'' See Supp. 1 to 15 CFR 774.

⁴ The Iranian Transactions Regulations are currently codified in the Code of Federal Regulations at 31 CFR part 560 (2006).

Charge 2 15 CFR 764.2(e)—Unlicensed Transfer of Item to Iran Knowing That a Violation of the Regulations Would Occur

In connection with the reexport transaction described above, Lincoln transferred a system, an item subject to the Regulations, from the UK to Iran knowing that a violation of the Regulations would occur. At all times relevant thereto, Lincoln knew that the system required authorization from the U.S. Government for reexport from the UK to Iran and that authorization for the reexport would not be obtained. Specifically, Lincoln received instructions in 2002 from Buehler United Kingdom's parent company, Buehler Limited, that items such as the system which contain specialized software could not be sold to Iran from any Buehler locations. He was also made aware that selling such items to Iran was barred by U.S. law. In so doing, Lincoln committed one violation of Section 764.2(e) of the Regulations.

Whereas, BIS and Lincoln have entered into a Settlement Agreement pursuant to Section 766.18(a) of the Regulations whereby they agreed to settle this matter in accordance with the terms and conditions set forth therein, and

Whereas, I have approved the terms of such Settlement Agreement;

It Is Therefore Ordered:

First, that for a period of seven years from the date of entry of this Order, Stephen Lincoln, 21 Durrell Drive, Rugby, Warwickshire, England CV22 7GW, and when acting for or on behalf of Lincoln, his representatives, assigns, or agents (“Denied Person”) may not, directly or indirectly, participate in any way in any transaction involving any commodity, software, or technology (hereinafter collectively referred to as “item”) exported or to be exported from the United States that is subject to the Regulations, or in any other activity subject to the Regulations, including, but not limited to:

A. Applying for, obtaining, or using any license, License Exception, or export control document;

B. Carrying on negotiations concerning, or ordering, buying, receiving, using, selling, delivering, storing, disposing of, forwarding, transporting, financing, or otherwise servicing in any way, any transaction involving any item exported or to be exported from the United States that is subject to the Regulations, or in any other activity subject to the Regulations; or

C. Benefitting in any way from any transaction involving any item exported or to be exported from the United States that is subject to the Regulations, or in any other activity subject to the Regulations.

Second, that no person may, directly or indirectly, do any of the following:

A. Export or reexport to or on behalf of the Denied Person any item subject to the Regulations;

B. Take any action that facilitates the acquisition or attempted acquisition by the Denied Person of the ownership, possession, or control of any item subject to the Regulations that has been or will be exported from the United States, including financing or other support activities related to a transaction whereby the Denied Person acquires or attempts to acquire such ownership, possession or control;

C. Take any action to acquire from or to facilitate the acquisition or attempted acquisition from the Denied Person of any item subject to the Regulations that has been exported from the United States;

D. Obtain from the Denied Person in the United States any item subject to the Regulations with knowledge or reason to know that the item will be, or is intended to be, exported from the United States; or

E. Engage in any transaction to service any item subject to the Regulations that has been or will be exported from the United States and which is owned, possessed or controlled by the Denied Person, or service any item, of whatever origin, that is owned, possessed or controlled by the Denied Person if such service involves the use of any item subject to the Regulations that has been or will be exported from the United States. For purposes of this paragraph, servicing means installation, maintenance, repair, modification or testing.

Third, that, after notice and opportunity for comment as provided in Section 766.23 of the Regulations, any person, firm, corporation, or business organization related to Lincoln by affiliation, ownership, control, or position of responsibility in the conduct of trade or related services may also be made subject to the provisions of the Order.

Fourth, that this Order does not prohibit any export, reexport, or other transaction subject to the Regulations where the only items involved that are subject to the Regulations are the foreign-produced direct product of U.S.-origin technology.

Fifth, that the proposed charging letter, the Settlement Agreement, and this Order shall be made available to the public.

Sixth, that this Order shall be served on the Denied Person and on BIS, and shall be published in the Federal Register.

This Order, which constitutes the final agency action in this matter, is effective immediately.

Entered this 2nd day of April 2007.
Darryl W. Jackson,
Assistant Secretary of Commerce for Export Enforcement.

[FR Doc. 07-1778 Filed 4-10-07; 8:45 am]

BILLING CODE 3510-DT-M